NUCLEAR REGULATORY COMMISSION

[Docket No. 70-3103; NRC-2010-0264]

Uranium Enrichment Fuel Cycle Inspection Reports Regarding Louisiana Energy Services, National Enrichment Facility, Eunice, New Mexico, Prior to the Commencement of Operations

AGENCY: Nuclear Regulatory Commission.

ACTION: Notice of availability.

SUMMARY: The U.S. Nuclear Regulatory Commission (NRC) staff has conducted inspections of the Louisiana Energy Services, LLC, National Enrichment Facility in Eunice, New Mexico, and has authorized the introduction of uranium hexafluoride (UF6) into cascades numbered 4.6, 4.7, 4.8, 4.9, 4.10, 4.11 and 4.12. In addition, the NRC verified that the systems, structures, and components designed to support safe operation of the Cylinder Receipt and Dispatch Building Liquid Effluent Collection and Transfer System and Small Component Decontamination Train Authorization of the facility have been constructed in accordance with the requirements of the approved license.

ADDRESSES: Please refer to Docket ID NRC-2010-0264 when contacting the NRC about the availability of information regarding this document. You may access publicly-available information related to this action by the following methods:

• Federal Rulemaking Web site: Go to http://www.regulations.gov and search for Docket ID NRC-2010-0264. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. In addition, for the convenience of the reader, the ADAMS accession numbers are provided in a table in the section of this document entitled, II. Availability of Documents.

• NRC's PDR: You may examine and purchase copies of public documents at the NRC's PDR, Room O1-F21, One White Flint North, 11555 Rockville Pike, Rockville, Maryland 20852.

FOR FURTHER INFORMATION CONTACT: Michael Raddatz, Office of Nuclear Material Safety and Safeguards, U.S. Nuclear Regulatory Commission, Washington, DC 20555-0001; telephone: 301-287-9124; email: Michael.Raddatz@nrc.gov.

SUPPLEMENTARY INFORMATION:

I. Further Information

The NRC staff has prepared inspection reports documenting its findings in accordance with the requirements of the NRC's Inspection Manual, and these reports are available for review as specified in Section II of this notice. The publication of this notice satisfies the requirements of Section 70.32(k) of Title 10 of the Code of Federal Regulations (10 CFR), and Section 193(c) of the Atomic Energy Act of 1954, as amended.

The introduction of UF6 into any module of the National Enrichment Facility is not permitted until the NRC completes an operational readiness and management measures verification review to verify that management measures that ensure compliance with the performance requirements of 10 CFR 70.61 have been implemented and confirms that the facility has been constructed in accordance with the license and will be operated safely. Subsequent operational readiness and management measures verification reviews will continue throughout the various phases of plant construction and, upon completion of these subsequent phases, additional notices of the operation approval letters will be published in the Federal Register in accordance with 10 CFR 70.32(k).

II. Availability of Documents

Documents related to this action, including the application for amendment and supporting documentation, are available online in the ADAMS Public Documents collection at http://www.nrc.gov/reading-rm/adams.html. From this site, you can access the NRC's ADAMS, which provides text and image files of NRC's public documents. Inspection reports associated with the approval letters are referenced in the letters and are also available electronically in ADAMS. Accession numbers for the approval letters are being noticed here as follows:

NRC Cascades Authorization Letters:

Authorization letters | Date | ADAMS accession No.
Cascade numbered 4.6 | November 1, 2013 | ML13305A239
Cascade numbered 4.7 | November 26, 2013 | ML13330A565
Cascade numbered 4.8 | December 18, 2013 | ML13353A481
Cascade numbered 4.9 | May 14, 2014 | ML14134A477
Cascade numbered 4.10 | March 4, 2014 | ML14063A025
Cascade numbered 4.11 | March 11, 2014 | ML14070A285
Cascade numbered 4.12 | April 7, 2014 | ML14097A331

NRC Authorization Letters Related to the Cylinder Receipt and Dispatch Building (CRDB):

Authorization letters | Date | ADAMS accession No.
CRDB Liquid Effluent Collection and Transfer System and Small Component Decontamination Train Authorization | August 13, 2013 | ML13225A542

NRC Inspection Reports:

Inspection report No. | Date | ADAMS accession No.
IR 07003103/2013-004 | October 31, 2013 | ML13305A074
IR 07003103/2013-007 | January 28, 2014 | ML14031A103
IR 07003103/2013-005 | January 31, 2014 | ML14031A285
IR 07003103/2013-202 | February 7, 2014 | ML14028A073
IR 07003103/2014-001 | March 11, 2014 | ML14070A239
IR 07003103/2014-002 | April 24, 2014 | ML14115A022
IR 07003103/2014-201 | May 9, 2014 | ML14119A448

If you do not have access to ADAMS or if there are problems in accessing the documents located in ADAMS, contact the NRC PDR reference staff at 1-800-397-4209, 301-415-4737 or by email to pdr.resource@nrc.gov.

These documents may also be viewed electronically on the public computers located at the NRC's PDR, O1-F21, One White Flint North, 11555 Rockville Pike, Rockville, MD 20852. The PDR reproduction contractor will copy documents for a fee.

Dated at Rockville, Maryland this 11th day of June, 2014.
For the Nuclear Regulatory Commission.
Thomas A. Grice,
Acting Chief, Uranium Enrichment Branch, Division of Fuel Cycle Safety and Safeguards, Office of Nuclear Material Safety and Safeguards.

[FR Doc. 2014-14701 Filed 6-23-14; 8:45 am]

BILLING CODE 7590-01-P